DEPARTMENT OF HOMELAND SECURITY

Federal Emergency Management Agency

[Docket ID FEMA-2014-0014]

Notice of Intent To Prepare an Environmental Impact Statement for the Southern Flow Corridor Flood Reduction and Habitat Restoration Project, Tillamook County, Oregon

AGENCY: Federal Emergency Management Agency, DHS.

ACTION: Notice of intent to prepare an Environmental Impact Statement.

SUMMARY: The Federal Emergency Management Agency (FEMA), in cooperation with other Federal agencies, intends to prepare an environmental impact statement (EIS) evaluating the environmental impacts associated with funding activities to reduce flood impacts and to restore habitat for fish and wildlife within Tillamook County, Oregon. FEMA intends to provide funding for the project, known as the Southern Flow Corridor project, to the Port of Tillamook Bay (Applicant) through FEMA's Public Assistance (PA) grant program. Other funding for the project comes from the National Oceanic and Atmospheric Administration (NOAA) Restoration Center, State of Oregon lottery funds, U.S. Fish and Wildlife Service, Oregon Watershed Enhancement Board, and Tillamook County. Other public and private entities may also provide funding to support the Project.

FOR FURTHER INFORMATION CONTACT: Mark Eberlein, Regional Environmental Officer, FEMA Region X, 130 228th Street SW., Bothell, WA 98021, phone: 425-487-4735, email: mark.eberlein@fema.dhs.gov.

SUPPLEMENTARY INFORMATION: The Federal Emergency Management Agency (FEMA), in cooperation with other Federal agencies, intends to prepare an environmental impact statement (EIS) evaluating the environmental impacts associated with funding activities to reduce flood impacts and to restore habitat for fish and wildlife within Tillamook County, Oregon. FEMA intends to provide funding for the project, known as the Southern Flow Corridor project, to the Port of Tillamook Bay (Applicant) through FEMA's Public Assistance (PA) grant program. Other funding for the project comes from the National Oceanic and Atmospheric Administration (NOAA) Restoration Center, State of Oregon lottery funds, U.S. Fish and Wildlife Service, Oregon Watershed Enhancement Board, and Tillamook County. Other public and private entities may also provide funding to support the Project.

Section 102(2)(C) of the National Environmental Policy Act of 1969 (NEPA), the Council on Environmental Quality (CEQ) regulations implementing NEPA, and FEMA's Environmental Considerations regulations require the preparation of an EIS for major Federal actions that would have significant impacts on the quality of the human environment. The CEQ regulations at 40 CFR 1501.7 require the issuance of a notice of intent to prepare an EIS prior to initiating the scoping process. Scoping is an early and open process that assists the Federal action agency in determining the scope of issues to be addressed and in identifying significant issues related to a proposed action.

FEMA received a Public Assistance application from the Port of Tillamook Bay for the Southern Flow Corridor (Project) as an alternate project to the repairs of its rail line that was damaged during flooding and severe storms in December, 2007. FEMA's proposed action is to provide funding for the Project; this funding is authorized under Section 406 of the Robert T. Stafford Disaster Relief and Emergency Assistance Act, Public Law 93-288, as amended.

The development of the Project by the Applicant originated through an initiative of the Oregon Solutions Program, which is a program launched by the Governor's office after passage of the Oregon Sustainability Act in 2001. This initiative brought together Federal, State, and local government agencies to identify strategies for implementing flood control measures and ecosystem restoration actions within the Tillamook Bay watershed. The Oregon Solutions team identified, evaluated, and prioritized projects. Multiple alternatives were considered along with multiple funding sources. The proposed Project is the outcome of this effort. More information can be found at: http://www.co.tillamook.or.us/Documents/Misc/White%20Paper.pdf. This report includes a graphical depiction of constructed elements, alternatives considered by the Applicant prior to the development of the Southern Flow Corridor project, previous public outreach and involvement efforts, and a history of efforts since the late 1990s to address flooding and restore habitat in the Tillamook Bay watershed.

The Applicant's goal for the Project is to restore flood flow pathways from the Wilson River to Tillamook Bay. Implementation of the Project will result in flood level reductions across the lower Wilson River floodplain and to a lesser degree on the lower Trask and Tillamook Rivers. The Project is intended to reduce the flood levels to more natural levels over a wide range of flood magnitudes, but it will not reduce the frequency of flooding, which is controlled by flows and bank elevations upstream. Another goal of the Project is to restore ecological function and habitat for salmon listed under the Endangered Species Act and for other fish and wildlife.

The Project proposes to accomplish these goals by removing existing levees and fills to restore tidal marsh, and creating new setback tidal dikes to protect adjacent private lands. Key preliminary project elements include: (1) Levee, Fill, and Structure Removal: Remove approximately 6.9 miles of existing levee, 2.1 miles of road, 4 structures, and lower 2.1 miles of levee within the flow corridor to provide increased flood conveyance and allow the natural processes to restore ecosystem functions and habitat in the project area (total fill removal is estimated at 85,000 cubic yards); (2) New Tidal Setback and Upgraded Levees: Approximately 1.4 miles of new tidal setback levee will be constructed and up to 2.3 miles of existing levee adjusted to design grade (lowered or raised), and strengthened in order to improve flood conveyance and protect adjacent agricultural lands from tidal influence in the project area; (3) New Floodgates: A series of floodgates will be incorporated in the new levee in order to replace the existing gates slated for removal. Some of the existing floodgates may be recycled and re-used in the new levee system; (4) Hall Slough Elements: Additional flood reduction elements include improving the hydraulic connectivity between Hall and Blind Sloughs through removal of the Fuhrman Road berm and constructing an approximate 1,000-foot-long Hall Slough—Blind Slough connector channel; (5) Drainage Network Improvements: Improvements to the existing drainage ditches inside the new levee will be made as necessary to connect them to the new floodgates and ensure that equal or better drainage is maintained once the project is implemented. In addition, over 3 miles of drainage ditches will be filled to restore a natural drainage regime and improve habitat conditions; (6) Habitat Restoration Elements: The project elements described above are anticipated to result in full tidal inundation of 521 acres of restored marsh and wetland fringe habitat. In addition, the project would include extensive placement of large wood habitat features and reconnection of high-quality tidal channel habitat by constructing new channels, which are expected to naturally expand in total length to approximately 14 miles; and (7) Property Acquisition: The majority of the project area is already held in public ownership (398 acres), but acquisition of additional acres in private ownership is required. In addition, permanent flood easements and temporary construction easements may be required to maintain post-project floodplain functions and for proposed modifications of existing levees and removal of some dredge spoils on lands not required for acquisition.

The EIS scoping process will utilize and build upon the previous efforts of the Oregon Solutions team. To further scope the Project, FEMA will be soliciting public input to help identify and refine Project alternatives and significant issues for evaluation in the EIS. Outreach for the scoping process will include a public notice in local and regional media, direct mailing to interested parties, and a public scoping meeting. Federal, State and local agencies, Indian tribes, interested organizations and individuals will be asked to comment on the scope of issues, alternatives and their potential impacts. This outreach effort is planned for the spring of 2014 in Tillamook County. The specific date, time, and location for the public meeting will be provided with the public notice. A similar approach is planned for release of the Draft EIS.

Authority: 42 U.S.C. 4331 et seq.; 40 CFR part 1500; 44 CFR part 10.

W. Craig Fugate,
Administrator, Federal Emergency Management Agency.

[FR Doc. 2014-10331 Filed 5-5-14; 8:45 am]

BILLING CODE 9111-A6-P